DEPARTMENT OF HEALTH AND HUMAN SERVICES

Centers for Disease Control and Prevention

[Program Announcement 02083]

Cooperative Agreement for the Development of International Surveillance Systems, Enhancement of Epidemiologic Practice, and the Development of Epidemiologic Training Programs, Workshops, and Conferences for Ministries of Health (MOH) and Other International Health Organizations; Notice of Availability of Funds

A. Purpose

The Centers for Disease Control and Prevention (CDC) announces the availability of fiscal year (FY) 2002 funds for a cooperative agreement program for the development of international surveillance systems, enhancement of epidemiologic practice, and the development of epidemiologic training programs, workshops, and conferences for Ministries of Health (MOH) and international health organizations.

The purpose of this program is to provide leadership and technical assistance activities to assure that international health organizations have the infrastructure to support effective epidemiologic activities that are essential in providing public health services.

Measurable outcomes of the program will be in alignment with one or more of the following performance goals encourage Ministries of Healths to develop efficient and comprehensive public health information and surveillance systems by promoting the use of the internet and by focusing on development of standards for communications and data elements and Efficiently respond to the needs of our Ministries of Health partners through the provision of epidemiologic assistance.

B. Authority and Catalog of Federal Domestic Assistance Number

This program is authorized under sections 301 and 307 of the Public Health Service Act, [42 U.S.C. sections 241 and 242l, as amended]. The Catalog of Federal Domestic Assistance number is 93.283

C. Eligible Applicants

Assistance will be limited to organizations that have at least one year proven scientific and technical experience to carry out international programs in public health, especially epidemiology and surveillance.

First priority will be given to organizations that can show established relationships with governmental institutions such as Ministries of Health, national disease prevention and control programs, academic institutions and international organizations.

Note: Title 2 of the United States Code section 1611 states that an organization described in section 501(c)(4) of the Internal Revenue Code that engages in lobbying activities is not eligible to receive Federal funds constituting an award, grant or loan.

D. Availability of Funds

Approximately $200,000 is available in FY 2002 to fund one award. Funds will be allocated to individually described and budgeted projects or activities which will comprise the overall cooperative agreement. Individual projects are expected to range from $1,000 to $200,000. It is expected that the award will begin on or about September 30, 2002 and will be made for a 12-month budget period within a project period of up to five years. Funding estimates may change.

Matching funds is not a requirement for this program announcement.

Continuation award within an approved project period will be made on the basis of satisfactory progress as evidenced by required reports and the availability of funds.

Use of Funds

1. All requests for funds contained in the budget, shall be stated in U.S. dollars. Once an award is made, CDC will not compensate foreign grantees for currency exchange fluctuations through issuance of supplemental awards.

2. By making this statement all requests, not only the initial budget but any subsequent request such as redirection, requests for supplemental funds, carry-overs, etc. are included. This is Health and Human Services (HHS) policy.

3. Funds may be spent for reasonable program purposes, including personnel, travel, supplies, and services. Equipment may be purchased if deemed necessary to accomplish program objectives, however, prior approval by CDC officials must be requested in writing.

4. The costs that are generally allowable in grants to domestic organizations are allowable to foreign institutions and international organizations, with the following exception: Indirect costs will not be paid (either directly or through sub-award) to organizations located outside the territorial limits of the United States or to international organizations regardless of their location.

5. The applicant may contract with other organizations under this program; however, the applicant must perform a substantial portion of the activities (including program management and operations, and delivery of prevention services for which funds are required).

6. Limitations and/or prohibitions on the use of funds are as follows:

a. Alterations and renovations are not allowable.

b. Customs and import duties, including consular fees, customs surtax, value-added taxes and other related charges.

E. Program Requirements

In conducting activities to achieve the purpose of this program, the recipient will be responsible for the activities under 1. Recipient Activities, and CDC will be responsible for the activities listed under 2. CDC Activities.

1. Recipient Activities

a. Develop new and enhance existing collaborations with field research.

b. Provide scientists to work abroad and to train other health workers abroad.

c. Conduct assessments to identify minimum standards of various public health epidemiology practices, capacities and staffing.

d. Identify, develop and monitor the types of information, technical assistance, technical capacity and training needed to implement an Integrated Disease Surveillance System.

e. Ensure mechanisms for the evaluation and/or quality assurance of existing and pre-accreditation of new training programs.

f. Assure participation in CDC outbreak investigation teams to strengthen global epidemic preparedness and response capacity.

g. Build partnerships to enhance global and regional public health capacity.

h. Support travel to meetings, collaborative investigations, training, etc.

i. Conduct assessments of epidemiologic training, resources and technology needs of local health organizations.

j. Provide and support training workshops, seminars, and conferences (attendance).

k. Provide aid with program planning and program surveillance.

l. Collect and analyze data to evaluate epidemiology's contribution to public health and increase the infrastructure for surveillance and epidemiologic capacity.

m. Develop and maintain an officially recognized forum for the regional, national and international exchange of epidemiologic and other public health information (e.g., conduct annual meeting to discuss policy issues and recommendations).

n. Provide leadership and technical assistance activities to ensure that local, regional, national, and international health departments/ministries of health have the infrastructure to provide essential public health services effectively.

o. Identify and propose projects or activities in response to findings above.

2. CDC Activities

a. Provide consultation and assistance in planning and implementing program activities when needed.

b. Assist in establishing partnerships that will build global public health capacity and increase laboratory support.

c. Assist in the preparation and implementation of trainings and conferences.

d. Provide technical assistance from several Centers, Institutes, and Offices (CIOs) within the CDC.

e. Assist in the development of field-based (competency based) training programs.

f. Engage the collective strength of all field-based training programs to chart the directions, scope and priorities for public health initiatives.

g. Provide science-based collaboration and technical assistance in developing and implementing evaluation strategies for the program.

h. Assist in supporting an annual forum for local, regional, national, and international exchange of epidemiologic and other public health information.

F. Application Content

Use the information in the Program Requirements, Other Requirements, and Evaluation Criteria sections to develop the application content. Your application will be evaluated on the criteria listed, so it is important to follow them in laying out your program plan. Provide a detailed budget and justification for each individual project or major activity. In the applications to CDC for funding, include projects or activities which: (a) Provide benefit to multiple regions/countries or (b) promote epidemiologic practice and public health surveillance of regional/national/international significance to assure that infrastructures are in place to provide essential public health services.

The narrative should be no more than twenty double-spaced pages, printed on one side, with one-inch margins, and unreduced fonts. Narrative should include: Understanding the Need or Problem, Technical Approach, Ability to Carry Out the Project, Personnel, Management Plan, and Budget.

G. Submission and Deadline

Application

Submit the original and two copies of PHS 5161-1 (OMB Number 0937-0189). Forms are available at the following Internet address:

http://www.cdc.gov/od/pgo/forminfo.htm. Forms may also be obtained by contacting the Grants Management Specialist in the “where to Obtain Additional Information” section of this announcement. Forms may not be submitted electronically.

Forms must be submitted in the following order:

Cover Letter

Table of Contents

Application

Budget Information Form

Budget Justification

Checklist

Assurances

Certifications

Disclosure Form

Human Subject Certification

Narrative

On or before September 16, 2002, submit the application to the: Technical Information Management Section, 2920 Brandywine Road, Room 3000, Atlanta, Georgia 30341.

Deadline: Applications must shall be considered as meeting the deadline if they are: Received on or before the deadline date.

Late Applications: Applications which do not meet the criteria above will be returned to the applicant.

H. Evaluation Criteria

Application

Applicants are required to provide Measures of Effectiveness that will demonstrate the accomplishment of the various identified objectives of the grant or cooperative agreement. Measures of Effectiveness must relate to the performance goal (or goals) as stated in section “A. Purpose” of this announcement. Measures must be objective and quantitative and must measure the intended outcome. These Measures of Effectiveness shall be submitted with the application and shall be an element of evaluation.

The application will be evaluated individually against the following criteria by an independent review group appointed by CDC.

1. Technical Approach (30 points)

The extent to which the application addresses:

a. An overall design strategy, including measurable time lines.

b. The relationship between activities and objectives.

c. Description of the management and analysis of data collected for meeting objectives.

2. Ability to carry out the project (30 points)

The extent to which the applicant provides evidence of its ability to carry out the proposed activity or project and the extent to which the applicant documents the demonstrated capability to achieve the purpose of this project.

3. Understanding of the need or problem (20 points)

The extent to which the applicant demonstrates a clear, concise understanding of the nature of the need or problem to be addressed.

a. Extent to which the applicant specifically includes a description of the public health importance of the planned activities to be undertaken.

b. Extent to which the applicant provides a realistic presentation of the proposed project.

4. Personnel (10 points)

The extent to which professional personnel involved in this activity or project are qualified, including evidence of prior experience similar to this activity or project. (Complete Curricula vitae should be provided for professional and senior administrative staff; relevant training and experience should be highlighted). If a position is vacant, a position description and complete description of required qualifications for that position are to be included in the application along with a specific plan (including time line) for hiring.

5. Management plan (10 points)

The extent to which the applicant provides a description of the systems and procedures which will be used to manage the progress, budget and operations of the activity or project.

6. Budget (Not Scored)

Extent to which the budget is reasonable, clearly justified, and consistent with the intended use of cooperative agreement funds.

I. Other Requirements

Technical Reporting Requirements

An original and two copies of an annual progress report is required to be submitted each year with the continuation application. A financial status report (FSR) is due 90 days after the end of each budget period. An original and two copies of a final performance report and FSR are due no later than 90 days after the end of the project period.

Progress Reporting Requirements

1. A comparison of actual accomplishments to the goals established for the period.

2. The reasons for which established goals were not met.

3. Other pertinent information including, when appropriate, analysis and explanation of any unexpectedly high costs for performance.

4. Provide measures of effectiveness to evaluate the accomplishment of the various identified objectives of the cooperative agreement. These measures must be objective and must measure the intended outcome. The submission of these measures shall be a data element to be submitted with, or incorporated, into the semiannual progress reports.

Fiscal Reporting Requirements

1. Awardee is required to obtain annual audit of these CDC funds (program-specific audit) by a U.S. based audit firm with International branches and current licensure/authority in country, and in accordance with International Accounting Standards, or equivalent standard(s) approved in writing by CDC.

2. A fiscal Recipient Capability Assessment may be required, for pre award or post award, with the potential awardee in order to review their business management and fiscal capabilities regarding the handling of U.S. Federal funds.

Send all reports to the Grants Management Specialist identified in the “Where to Obtain Additional Information” section of this announcement.

The following additional requirements are applicable to this program. For a complete description of each, see Attachment I of the announcement.

AR-9 Paperwork Reduction Act Requirements

AR-10 Smoke-Free Workplace Requirements

AR-12 Lobbying Restrictions

AR-14 Accounting System Requirements

AR-15 Proof of Non-Profit Status

J. Where To Obtain Additional Information

This and other CDC announcements can be found on the CDC home page Internet address— http://www.cdc.gov. Click on “Funding” then “Grants and Cooperative Agreements.”

If you have questions after reviewing the contents of all the documents, business management technical assistance may be obtained from: Terrie Brown, Grants Management Specialist, International & Territories Acquisition & Assistance Branch Procurement and Grants Office, Centers for Disease Control and Prevention, Room 3000, 2920 Brandywine Road, Atlanta, GA 30341-4146. Telephone number (770) 488-2638. E-mail address aie9@cdc.gov.

For program technical assistance, contact:

Dr. Ed Maes, Associate Director for Science Division of International Health, Epidemiology Program Office, Centers for Disease Control and Prevention, 4770 Buford Highway, MS—K72, Atlanta, GA 30341. Telephone Number (770) 488-8163. E-mail address efm1@cdc.gov;

or

Dianne Wylie, Public Health Advisor, Division of International Health, Epidemiology Program Office, Centers for Disease Control and Prevention, 4770 Buford Highway, MS—K72, Atlanta, GA 30341. Telephone Number (770) 488-8325 or 8322. E-mail address mdw1@cdc.gov.

Dated: August 9, 2002.
Sandra R. Manning,
CGFM, Director, Procurement and Grants Office, Centers for Disease Control and Prevention.

[FR Doc. 02-20704 Filed 8-14-02; 8:45 am]

BILLING CODE 4163-18-P